DEPARTMENT OF ENERGY

Federal Energy Regulatory Commission

[Project No. 2325-104]

Brookfield White Pine Hydro, LLC; Weston Holdco, LLC; Notice of Application of Transfer of License and Soliciting Comments, Motions To Intervene, and Protests

On October 8, 2025, the Brookfield White Pine Hydro, LLC (transferor) filed an application with the Federal Energy Regulatory Commission (FERC or Commission) to transfer the license for the 15.98-megawatt Weston Hydroelectric Project (project) No. 2325. The project is located on Kennebec River in Somerset County, Maine and does not occupy federal land.

Pursuant to 16 U.S.C. 801, the applicants seek Commission approval to transfer the license for the project from the Brookfield White Pine Hydro, LLC to the to-be-formed Weston Holdco, LLC (transferee). The transferee will be required by the Commission to comply with all the requirements of the license as though it were the original licensee.

Applicants Contacts: William Fyfe, General Counsel—US, Brookfield Renewable US, 181 Bay Street, Suite 100, Toronto, Ontario M5J 2T3, Canada, william.fyte@brookfieldrenewable.com.

Julia S. Wood, Rock Creek Energy Group, LLP, 1 Thomas Circle NW, Suite 700, Washington, DC 20005, jwood@rockcreekenergygroup.com.

FERC Contact: Woohee Choi, Phone: (202) 502-6336, Email: Woohee.Choi@ferc.gov.

Deadline for filing comments, motions to intervene, and protests: January 8, 2026 5:00 p.m. Eastern Time.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via U.S. Postal Service must be addressed to, Debbie-Anne A. Reese, Secretary, Federal Energy Regulatory Commission, 888 First Street NE, Room 1A, Washington, DC 20426. Submissions sent via any other carrier must be addressed to, Debbie-Anne A. Reese, Secretary, Federal Energy Regulatory Commission, 12225 Wilkins Avenue, Rockville, Maryland 20852. The first page of any filing should include docket number P-2325-104. Comments emailed to Commission staff are not considered part of the Commission record.

For public inquiries and assistance with making filings such as interventions, comments, or requests for rehearing, contact the Office of Public Participation at (202) 502-6595 or OPP@ferc.gov.

(Authority: 18 CFR 2.1)

Dated: December 9, 2025.
Debbie-Anne A. Reese,
Secretary.

[FR Doc. 2025-22732 Filed 12-12-25; 8:45 am]

BILLING CODE 6717-01-P